DEPARTMENT OF COMMERCE

International Trade Administration

[A-570-849]

Certain Cut-to-Length Carbon Steel Plate From the People's Republic of China: Notice of Extension of Time Limit for Final Results of New Shipper Review

AGENCY: Import Administration, International Trade Administration, Department of Commerce

DATES: Effective Date: March 5, 2009.

FOR FURTHER INFORMATION CONTACT: Demitri Kalogeropoulos, AD/CVD Operations, Office 8, Import Administration, International Trade Administration, U.S. Department of Commerce, 14th Street and Constitution Avenue, NW., Washington, DC 20230; telephone: (202) 482-2623.

Background

On November 13, 2008, the Department of Commerce (“Department”) published the preliminary results of the new shipper review of the antidumping duty order on certain cut-to-length carbon steel from the People's Republic of China, covering the period November 1, 2006, through October 31, 2007, for the following exporter: Hunan Valin Xiangtan Iron & Steel Co. Ltd. (“Valin Xiangtan”). See Certain Cut-to-Length Carbon Steel From the People's Republic of China: Preliminary Results of New Shipper Review, 73 FR 67124 (November 13, 2008) (“Preliminary Results”). On January 6, 2009, the Department extended the time limit for the completion of the final results by 30 days. See Certain Cut-to-Length Carbon Steel Plate From the People's Republic of China: Notice of Extension of Time Limit for Final Results of New Shipper Review, 74 FR 430, (January 6, 2009). The final results are currently due on March 6, 2009.

Extension of Time Limits for Final Results

Section 751(a)(2)(B)(iv) of the Tariff Act of 1930, as amended (“the Act”), and 19 CFR 351.214(i)(1) require the Department to issue the final results of a new shipper review within 90 days after the date on which the preliminary results were issued. The Department may, however, extend the 90-day period for completion of the final results of a new shipper review to 150 days if it determines that the case is extraordinarily complicated. See section 751(a)(2)(B)(iv) of the Act and 19 CFR 351.214(i)(2).

As a result of the complex issues raised in this new shipper review, including by-product offsets and separate rate eligibility, the Department determines that this new shipper review is extraordinarily complicated and it cannot complete this new shipper review within the current time limit. Accordingly, the Department is extending the time limit for the completion of the final results by an additional 30 days until April 6, 2009,¹ in accordance with section 751(a)(2)(B)(iv) of the Act and 19 CFR 351.214(i)(2).

¹ An extension of an additional 30 days would result in a new deadline of April 5, 2009. As April 5, 2009, falls on a Sunday, the final results will now be due no later than April 6, 2009, the next business day.

We are issuing and publishing this notice in accordance with sections 751(2)(B) and 777(i)(1) of the Act.

Dated: February 26, 2009.
John M. Andersen,
Acting Deputy Assistant Secretary for Antidumping and Countervailing Duty Operations.

[FR Doc. E9-4742 Filed 3-4-09; 8:45 am]

BILLING CODE 3510-DS-P